ENVIRONMENTAL PROTECTION AGENCY

[FRL-7129-7]

EPA Science Advisory Board; Notification of Public Advisory Committee Meetings

Pursuant to the Federal Advisory Committee Act, Public Law 92-463, notice is hereby given that two committees of the US EPA Science Advisory Board (SAB) will meet on the dates and times noted below. All times noted are Eastern Time. All meetings are open to the public, however, seating is limited and available on a first come basis. Important Notice: Documents that are the subject of SAB reviews are normally available from the originating EPA office and are not available from the SAB Office—information concerning availability of documents from the relevant Program Office is included below.

1. The PM Centers Interim Review Panel of the Executive Committee (PM Centers Panel)—February 11-12, 2002

The PM Centers Interim Review Panel of the Executive Committee of the US EPA Science Advisory Board (SAB), will meet on Monday and Tuesday, February 11-12, 2002 in the EPA Science Advisory Board Conference Room (room 6013), USEPA, Ariel Rios Building North, 1200 Pennsylvania Avenue, NW, Washington, DC 20004. The meeting will begin by 8:30 am on February 11 and adjourn no later than 5 pm on February 12, 2002.

Purpose of the Meeting—In 1995 EPA introduced a research grants program (Science To Achieve Results (STAR)) focused on targeted, investigator-initiated, peer-review-competed grants. Subsequent experience suggested that there could be substantial benefits gained by investing some resources in larger, more coordinated grants to “research centers” that would focus the combined efforts of a group of researchers on closely related problems. The Particulate Matter (PM) Centers were funded in 1999 for a five-year period and thus, are in the middle of their grants. Although two and a half years of the PM Centers program is not sufficient time to evaluate fully its merits, the Agency is seeking an interim assessment of the PM centers concept that will help the Agency as it formulates its future research funding plans. It is for this purpose of providing interim advice on the effectiveness of the PM centers concept as a research mechanism that the SAB Panel is being convened.

Charge to the Subcommittee—The Panel has been asked to address the following Charge questions:

Overall Objective

To assess the value-added nature of a PM Centers research program.

Overall Charge Question

Based on progress to date, should a PM Centers research program be undertaken beyond 2004? In which areas, to what extent, and for what reasons is a PM Centers program beneficial? Identify specific areas in which the program could be improved.

Specific Charge Questions

(a) Recognizing the PM Centers program is barely at its halfway point, what important research findings (or promising investigations) have been made that would not have occurred otherwise? What unique aspect(s) of a Centers program enabled such actions to be taken?

(b) To what extent has the direction or focus of research shifted as a result of the multi-disciplinary interactions within the Center (i.e., findings in one department influence researchers in another to change direction or emphasis)? To what extent have changes in research direction or emphasis been influenced by Science Advisory Committee reviews, interactions with other PM Centers, or interactions with the broader PM research community? Which factors have been most influential?

(c) How successful are Centers in communicating their findings to the public and specifically, to those who directly use their research? Is it clear that the work has been supported by the PM Centers program?

(d) How, if at all, does a PM research centers program facilitate agreement or consensus on protocols or procedures to enable more direct comparison of results among research institutions or centers?

(e) How, if at all, does a PM research centers program leverage or maximize use of resources through sharing expensive equipment, samples, data, etc.?

(f) How is the program perceived within and outside the research community? Does a research center have greater visibility, and if so, what is the impact?

Availability of Review Materials: The Agency is coordinating the preparation of background materials that will help to inform the review. To access these materials, please contact Ms. Stacey Katz (Phone: 202-564-8201, or e-mail katz.stacey@epa.gov) or Ms. Gail Robarge (Phone: 202-564-8301, or e-mail robarge.gail@epa.gov) in the EPA Office of Research and Development (ORD).

For Further Information—Members of the public wishing an Agenda or a roster of the Committee should contact Ms. Diana Pozun, Program Specialist, Research Strategies Advisory Committee, EPA Science Advisory Board (1400A), Suite 6450, U.S. EPA, 1200 Pennsylvania Avenue, NW, Washington, DC 20460; telephone/voice mail at (202) 564-4544; fax at (202) 501-0582; or via e-mail at pozun.diana@epa.gov. Any member of the public wishing further information concerning this meeting or wishing to submit brief oral comments (10 minutes or less) must contact Dr. Donald Barnes, Designated Federal Officer, EPA Science Advisory Board (1400A), U.S. Environmental Protection Agency, 1200 Pennsylvania Avenue, NW, Washington, DC 20460; telephone (202) 564-4533; FAX (202) 501-0323; or via e-mail at barnes.don@epa.gov. Requests for oral comments must be in writing (e-mail, fax or mail) and received by Dr. Barnes no later than noon Eastern Standard Time on February 4, 2002 [five business days before the meeting].

2. Research Strategies Advisory Committee (RSAC)—February 20-21, 2002

The Research Strategies Advisory Committee (RSAC) of the US EPA Science Advisory Board (SAB) will meet on Wednesday, February 20, 2002 and Thursday, February 21, 2002 from 8:30 am to 5:00 pm (Eastern Time). The meeting will be held in the EPA Science Advisory Board Conference Room (room 6013), USEPA, Ariel Rios Building North, 1200 Pennsylvania Avenue, NW, Washington, DC 20004.

Purpose of the Meeting—In this meeting, the Research Strategies Advisory Committee plans to review the Science and Technology component of the President's Budget Request for the Fiscal Year 2003 EPA budget. The tentative charge questions are:

(a) Does the budget request provide adequate balance and attention to the core and problem driven research needed to provide satisfactory knowledge for current and future decisions EPA will be required to make?

(b) How can EPA better use measures of performance to identify the impact of its research and development program and the funds that Congress provides for that Program? (the intent of this question is to go beyond GPRA requirements and help address issues surrounding using the findings from GPRA evaluations, OIG audits, GAO reports, etc.)

(c) Is the EPA research and development program addressing the important issues needed to adequately protect human health and the environment in the US and globally? What important issues are not receiving adequate attention at the current level of resources provided for the R&D program and the S&T budget?

(d) Does the budget request reflect the priorities identified in the EPA and ORD Strategic Plans?

Availability of Review Materials: Materials that are the subject of this review are available from Mr. Mike Feldman of the Office of the Chief Financial Officer or from Ms. Amy Battaglia Office of Research and Development. Mr. Feldman can be reached on (202) 564-6951 or by e-mail at feldman.mike@epa.gov and Ms. Battaglia can be reached on (202) 564-6685 or via e-mail on battaglia.amy@epa.gov.

For Further Information—Members of the public wishing an Agenda or a roster of the Committee should contact Ms. Betty Fortune, Office Assistant, Research Strategies Advisory Committee, EPA Science Advisory Board (1400A), Suite 6450, U.S. EPA, 1200 Pennsylvania Avenue, NW, Washington, DC 20460; telephone/voice mail at (202) 564-4534; fax at (202) 501-0323; or via e-mail at fortune.betty@epa.gov. Any member of the public wishing further information concerning this meeting or wishing to submit brief oral comments (10 minutes or less) must contact Dr. John “Jack” R. Fowle III, Designated Federal Officer, EPA Science Advisory Board (1400A), U.S. Environmental Protection Agency, 1200 Pennsylvania Avenue, NW, Washington, DC 20460; telephone (202) 564-4547; FAX (202) 501-0582; or via e-mail at fowle.jack@epa.gov. Requests for oral comments must be in writing (e-mail, fax or mail) and received by Dr. Fowle no later than noon Eastern Standard Time on February 13, 2002.

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information—Additional information concerning the EPA Science Advisory Board, its structure, function, and composition, may be found on the SAB Website (http://www.epa.gov/sab) and in The FY2000 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact the appropriate DFO at least five business days prior to the meeting so that appropriate arrangements can be made.

Dated: January 11, 2002.
Donald G. Barnes,
Staff Director, EPA Science Advisory Board.

[FR Doc. 02-1245 Filed 1-16-02; 8:45 am]

BILLING CODE 6560-50-P